DEPARTMENT OF THE TREASURY

Office of Foreign Assets Control

Additional Designations, Foreign Narcotics Kingpin Designation Act

AGENCY: Office of Foreign Assets Control, Treasury.

ACTION: Notice.

SUMMARY: The Treasury Department's Office of Foreign Assets Control (“OFAC”) is publishing the names of 8 additional individuals whose property and interests in property have been blocked pursuant to the Foreign Narcotics Kingpin Designation Act (“Kingpin Act”) (21 U.S.C. 1901-1908, 8 U.S.C. 1182).

DATES: The designation by the Director of OFAC of the eight individuals identified in this notice pursuant to section 805(b) of the Kingpin Act is effective on September 30, 2008.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available on OFAC's Web site (http://www.treas.gov/ofac) or via facsimile through a 24-hour fax-on demand service, tel.: (202) 622-0077.

Background

The Kingpin Act became law on December 3, 1999. The Kingpin Act establishes a program targeting the activities of significant foreign narcotics traffickers and their organizations on a worldwide basis. It provides a statutory framework for the President to impose sanctions against significant foreign narcotics traffickers and their organizations on a worldwide basis, with the objective of denying their businesses and agents access to the U.S. financial system and to the benefits of trade and transactions involving U.S. companies and individuals.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On September 30, 2008, OFAC designated eight additional individuals whose property and interests in property are blocked pursuant to section 805(b) of the Foreign Narcotics Kingpin Designation Act.

The list of additional designees is as follows:

1. LESMES BULLA, Jairo Alfonso (a.k.a. CALDERON, Javier); Colombia; DOB 25 Mar 1947; Citizen Colombia; Cedula No. 17164408 (Colombia); International FARC Commission Member for Argentina, Chile, Uruguay, and Paraguay; (INDIVIDUAL) [SDNTK].

2. TREJO FREIRE, Efrain Pablo (a.k.a. TREJOS FREYRE, Pablo); Colombia; DOB 07 Jun 1951; Citizen Colombia; Cedula No. 13004986 (Colombia); International FARC Commission Member for Peru; (INDIVIDUAL) [SDNTK].

3. JURADO PALOMINO, Orlay (a.k.a. “Libardo Antonio BENAVIDES MONCAYO”; a.k.a. “Commander Hermes”); Colombia; DOB 09 Feb 1950; Citizen Colombia; Cedula No. 7245990 (Colombia); International FARC Commission Member for Venezuela; (INDIVIDUAL) [SDNTK].

4. SALINAS PEREZ, Ovidio (a.k.a. ROJAS, Juan Antonio; a.k.a. “Jose Luis”; a.k.a. “El Embajador”); Colombia; DOB 03 Jul 1945; Citizen Colombia; Cedula No. 17125959 (Colombia); International FARC Commission Member for Panama; (INDIVIDUAL) [SDNTK].

5. DAVALOS TORRES, Jorge, Colombia; DOB 14 Dec 1972; Citizen Colombia; Cedula No. 94377215 (Colombia); International FARC Commission Member for Canada; (INDIVIDUAL) [SDNTK].

6. CADENA COLLAZOS, Francisco Antonio (a.k.a. MEDINA, Oliverio; a.k.a. “El Cura”; a.k.a. “Cura CAMILO”; a.k.a. “OLIVO”; a.k.a. “HUESITO”; a.k.a. “PACHO”); Colombia; Brazil; DOB 01 Jan 1947; Citizen Colombia; Cedula No. 4904771 (Colombia); International FARC Commission Member for Brazil; (INDIVIDUAL) [SDNTK].

7. CALDERON DE TRUJILLO, Nubia (a.k.a. “ESPERANZA”); Colombia; DOB 25 Mar 1956; Citizen Colombia; Cedula No. 36159126 (Colombia); International FARC Commission Member for Ecuador; (INDIVIDUAL) [SDNTK].

8. LOPEZ PALACIOS, Liliana (a.k.a. LUCIA MARIN, Olga); Colombia; DOB 21 Sep 1961; Citizen Colombia; Cedula No. 51708175 (Colombia); International FARC Commission Member for Mexico; (INDIVIDUAL) [SDNTK].

Dated: September 30, 2008.
Barbara Hammerle,
Acting Director, Office of Foreign Assets Control.

[FR Doc. E8-23358 Filed 10-2-08; 8:45 am]

BILLING CODE 4811-45-P